INTERNATIONAL TRADE COMMISSION

[USITC SE-11-011]

Government in the Sunshine Act Meeting Notice

AGENCY HOLDING THE MEETING: United States International Trade Commission.

TIME AND DATE: May 13, 2011 at 11 a.m.

PLACE: Room 110, 500 E Street, SW., Washington, DC 20436, Telephone: (202) 205-2000.

STATUS: Open to the public.

MATTERS TO BE CONSIDERED:

1. Agendas for future meetings: None.

2. Minutes.

3. Ratification List.

4. Vote in Inv. Nos. 701-TA-477 and 731-TA-1180-1181 (Preliminary) (Bottom Mount Combination Refrigerator-Freezers from Korea and Mexico). The Commission is currently scheduled to transmit its determinations to the Secretary of Commerce on or before May 16, 2011; Commissioners' opinions are currently scheduled to be transmitted to the Secretary of Commerce on or before May 23, 2011.

5. Vote in Inv. Nos. 701-TA-478 and 731-TA-1182 (Preliminary) (Certain Steel Wheels from China). The Commission is currently scheduled to transmit it determinations to the Secretary of Commerce on or before May 16, 2011; Commissioners' opinions are currently scheduled to be transmitted to the Secretary of Commerce on or before May 23, 2011.

6. Outstanding action jackets: None.

In accordance with Commission policy, subject matter listed above, not disposed of at the scheduled meeting, may be carried over to the agenda of the following meeting.

By order of the Commission.
Issued: May 3, 2011.
William R. Bishop,
Hearings and Meetings Coordinator.

[FR Doc. 2011-11092 Filed 5-3-11; 4:15 pm]

BILLING CODE 7020-02-P